DEPARTMENT OF EDUCATION

Applications for New Awards; Centers for International Business Education Program

AGENCY: Office of Postsecondary Education, Department of Education.

ACTION: Notice.

SUMMARY: The Department of Education (Department) is issuing a notice inviting applications for fiscal year (FY) 2022 for the Centers for International Business Education (CIBE) program, Assistance Listing Number 84.220A. This notice relates to the approved information collection under OMB control number 1840-0616.

DATES:

Applications Available: November 1, 2021.

Pre-Application Webinar Information: The Department will hold a pre-application meeting via webinar for prospective applicants. Detailed information regarding this webinar will be provided on the International and Foreign Language Education website at https://www2.ed.gov/about/offices/list/ope/iegps/index.html. Additionally, for new potential grantees unfamiliar with grantmaking at the Department, please consult our funding basics resources at www2.ed.gov/documents/funding-101/funding-101-basics.pdf.

Deadline for Transmittal of Applications: December 16, 2021.

Deadline for Intergovernmental Review: February 14, 2022.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Timothy Duvall, U.S. Department of Education, 400 Maryland Avenue SW, Room 2B225, Washington, DC 20202. Telephone: (202) 453-7521. Email: timothy.duvall@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the CIBE Program is to provide funding to institutions of higher education (IHEs) or consortia of such institutions for curriculum development, research, and training on issues of importance to international business and U.S. trade competitiveness.

Priorities: This notice contains two competitive preference priorities and one invitational priority. The competitive preference priorities for fiscal year (FY) 2022 are from the notice of final priorities for this program published in the Federal Register on June 3, 2014 (79 FR 31870) (NFP).

Competitive Preference Priorities: For FY 2022 and any subsequent year in which we make awards from the list of unfunded applications from this competition, these priorities are competitive preference priorities. Under 34 CFR 75.105(c)(2)(i), we award up to an additional five points depending on how well the application addresses Competitive Preference Priority 1, and up to an additional five points depending on how well the application addresses Competitive Preference Priority 2. An applicant may receive a maximum of 10 additional points under the competitive preference priorities.

These priorities are:

Competitive Preference Priority 1—Collaboration with a Professional Association or Business (up to 5 points).

Applications that propose to collaborate with one or more professional associations and/or businesses on activities designed to expand employment opportunities for international business students, such as internships and work-study opportunities.

Competitive Preference Priority 2—Collaboration with Minority-Serving Institutions (MSIs) or Community Colleges (up to 5 points).

Applications that propose significant and sustained collaborative activities with one or more MSIs (as defined in this notice) and/or with one or more community colleges (as defined in this notice). These activities must be designed to incorporate international, intercultural, or global dimensions into the business curriculum of the MSI(s) and/or community college(s). If an applicant institution is an MSI, that institution may propose intra-campus collaborative activities instead of, or in addition to, collaborative activities with other MSIs or community colleges.

For the purpose of this priority:

Community college means an institution that meets the definition in section 312(f) of the Higher Education Act of 1965, as amended (HEA) (20 U.S.C. 1058(f)); or an institution of higher education (as defined in section 101 of the HEA (20 U.S.C. 1001)) that awards degrees and certificates, more than 50 percent of which are not bachelor's degrees (or an equivalent) or master's, professional, or other advanced degrees.

Minority-Serving Institution (MSI) means an institution that is eligible to receive assistance under sections 316 through 320 of part A of Title III, under part B of Title III, or under Title V of the HEA.

Note: The institutions designated eligible under Title III and Title V may be viewed at the following link: https://www2.ed.gov/about/offices/list/ope/idues/eligibility.html.

Invitational Priority: For FY 2022 and any subsequent year in which we make awards from the list of unfunded applications from this competition, this priority is an invitational priority. Under 34 CFR 75.105(c)(1), we do not give an application that meets this invitational priority a competitive or absolute preference over other applications.

This priority is:

Applications that propose programs or activities focused on language instruction and/or performance testing and assessment to strengthen the preparation of international business professionals.

Application Requirements: The following application requirements for fiscal year (FY) 2022 are from section 612(f) of the HEA.

An applicant must submit, as part of its application—

(a) Evidence that the IHE, or consortium of such IHEs, will conduct extensive planning prior to the establishment of a center concerning the scope of the center's activities and the design of its programs in accordance with 20 U.S.C. 1130-1(d)(1);

(b) Assurance of ongoing collaboration in the establishment and operation of the center by faculty of the business, management, foreign language, international studies, professional international affairs, and other professional schools or departments, as appropriate;

(c) Assurance that the education and training programs of the center will be open to students concentrating in each of these respective areas, as appropriate, and that diverse perspectives will be made available to students in programs under 612(f) of the HEA; and

(d) Assurance that the IHE, or consortium of such IHEs, will use the assistance provided under this program to supplement and not to supplant activities conducted by IHEs described in 20 U.S.C. 1130-1(c)(1).

Program Authority: Title VI, part B, HEA (20 U.S.C. 1130-1 and 20 U.S.C. 1132 through 1132-7).

Note: Projects will be awarded and must be operated in a manner consistent with the nondiscrimination requirements contained in Federal civil rights laws.

Applicable Regulations: (a) The Education Department General Administrative Regulations in 34 CFR parts 75, 76, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

II. Award Information

Type of Award: Discretionary grants.

Estimated Available Funds: $4,571,400.

Contingent upon the availability of funds and the quality of applications, we may make additional awards in future fiscal years from the list of unfunded applications from this competition.

Estimated Range of Awards: $265,000-$305,000 per year.

Estimated Average Size of Awards: $285,000 per year.

Estimated Number of Awards: 16.

Note: The Department is not bound by any estimates in this notice. The estimated range and average size of awards are based on a single 12-month budget period. We may use FY 2022 funds to support multiple 12-month budget periods for one or more grantees.

Project Period: Up to 48 months.

III. Eligibility Information

1. Eligible Applicants: IHEs (as defined in section 101 of the HEA) or consortia of IHEs.

2. Cost Sharing or Matching: This program requires cost sharing or matching. The matching requirement is described in section 612(e) of the HEA (20 U.S.C. 1130-1 (e)(2)(3)(4)) and requires that the Federal share of the cost of planning, establishing, and operating centers under this program shall be—

a. Not more than 90 percent for the first year in which Federal funds are received;

b. Not more than 70 percent for the second year; and

c. Not more than 50 percent for the third year and for each year thereafter.

The non-Federal share of the cost of planning, establishing, and operating centers under this program may be provided either in cash or in-kind.

Waiver of non-Federal share: Under section 612(e)(4) of the HEA, in the case of an IHE receiving a grant under the CIBE Program and conducting outreach or consortium activities with another IHE in accordance with section 612(c)(2)(E), the Secretary may waive a portion of the requirements for the non-Federal share equal to the amount provided by the IHE receiving the grant to the other IHE for carrying out the outreach or consortium activities. Any such waiver is subject to the terms and conditions the Secretary may deem necessary for carrying out the purposes of the program.

d. Indirect Cost Rate Information: This program uses a restricted indirect cost rate. For more information regarding indirect costs, or to obtain a negotiated indirect cost rate, please see https://www2.ed.gov/about/offices/list/ocfo/fipao/faq.html.

e. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations, professional organizations, or businesses. The grantee may award subgrants to entities it has identified in an approved application or that it selects through a competition under procedures established by the grantee.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the CIBE grant competition, your application may include business information that you consider proprietary. In 34 CFR 5.11 we define “business information” and describe the process we use in determining whether any of that information is proprietary and, thus, protected from disclosure under Exemption 4 of the Freedom of Information Act (5 U.S.C. 552, as amended). Because we plan to post on our website a selection of funded abstracts and applications' narrative sections, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, except titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; budget section, including the narrative budget justification; the assurance and certifications; or the abstract, the resumes, the biography, or letters of support. However, the recommended page limit does apply to all of the application narrative.

V. Application Review Information

1. Selection Criteria: The selection criteria for this program are from section 612 of the HEA and 34 CFR 75.210. The maximum score for all of the selection criteria, taken together with the maximum number of points awarded to applicants that address the competitive preference priorities, is 110 points. The maximum score for each selection criterion is indicated in parentheses.

Note: In addressing the selection criteria below, refer to sections 611 and 612 of the HEA (20 U.S.C. 1130-1).

(a) Meeting the purpose of the authorizing statute. (up to 20 points)

The Secretary reviews each application to determine how well the applicant describes how it will establish and operate Centers for International Business Education which—

(1) Will be national resources for the teaching of improved business techniques, strategies, and methodologies which emphasize the international context in which business is transacted;

(2) Will provide instruction in critical foreign languages and international fields needed to provide understanding of the cultures and customs of United States trading partners; and

(3) Will provide research and training in the international aspects of trade, commerce, and other fields of study.

(b) Significance. (up to 20 points)

In determining the significance of the proposed project, the Secretary considers—

(1) The national significance of the proposed project.

(2) The importance or magnitude of the results or outcomes likely to be attained by the proposed project.

Note: You may discuss the significance of regional and local activities to address selection criterion (b)(2).

(c) Quality of the project design. (up to 10 points)

In determining the quality of the design of the proposed project, the Secretary considers the extent to which the proposed activities constitute a coherent, sustained program of research and development in the field, including, as appropriate, a substantial addition to an ongoing line of inquiry.

(d) Quality of the management plan. (up to 10 points)

In determining the quality of the management plan for the proposed project, the Secretary considers the adequacy of the management plan to achieve the objectives of the proposed project on time and within budget, including clearly defined responsibilities, timelines, and milestones for accomplishing project tasks.

(e) Quality of project personnel. (up to 10 points)

In determining the quality of project personnel, the Secretary considers—

(1) The extent to which the applicant encourages applications for employment from persons who are members of groups that have traditionally been underrepresented based on race, color, national origin, gender, age, or disability.

(2) The qualifications, including relevant training and experience, of the project director or principal investigator.

(3) The qualifications, including relevant training and experience, of key project personnel.

Note: Briefly describe key staff and faculty in this section. Supplemental materials should include resumes for staff, business and other faculty, and some Advisory Board members, in alphabetical order, two resumes per page, single-spaced. Provide title including department, education, research and teaching experience, major publications, awards, etc. Suggested maximum length: 20 pages, 40 resumes.

(f) Adequacy of resources. (up to 10 points)

In determining the adequacy of resources for the proposed project, the Secretary considers—

(1) The extent to which the costs are reasonable in relation to the objectives, design, and potential significance of the proposed project.

(2) The adequacy of support, including facilities, equipment, supplies, and other resources, from the applicant organization or the lead applicant organization.

(g) Quality of the project evaluation. (up to 20 points)

In determining the quality of the evaluation, the Secretary considers the following factors:

(1) The extent to which the methods of evaluation are thorough, feasible, and appropriate to the goals, objectives, and outcomes of the proposed project.

(2) The extent to which the methods of evaluation are appropriate to the context within which the project operates.

(3) The extent to which the methods of evaluation will provide timely guidance for quality assurance.

(4) The extent to which the methods of evaluation will provide performance feedback and permit periodic assessment of progress toward achieving intended outcomes.

Note: Please carefully review the section on “Guidance on Developing an Evaluation Plan” in the application package for detailed instructions on how to address this criterion.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions, and under 2 CFR 3474.10 in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Performance reports for the CIBE Program must be submitted electronically into the office of International and Foreign Language Education (IFLE) web-based reporting system, International Resource Information System (IRIS). For information about IRIS and to view the reporting instructions, please go to https://iris.ed.gov/iris/pdfs/CIBE.pdf.

(c) Under 34 CFR 75.250(b), the Secretary may provide a grantee with additional funding for data collection analysis and reporting. If a grantee is provided additional funding for this purpose, the Secretary establishes a data collection period.

5. Performance Measures: For the purposes of the Government Performance and Results Act of 1993 and Department reporting under 34 CFR 75.110, the following measures will be used by the Department to evaluate the success of the CIBE Program:

(a) Percentage of CIBE Program participants who advanced in their professional field two years after their participation.

(b) Percentage of CIBE projects that established or internationalized a concentration, degree, or professional program with a focus on or connection to international business over the course of the CIBE grant period. (long-term measure).

(c) Percentage of CIBE projects for which there was an increase in the export business activities of the project's business industry participants.

The information provided by grantees in their performance reports submitted via IRIS will be the source of data for these measures. Reporting screens for institutions can be viewed at: http://iris.ed.gov/iris/pdfs/CIBE.pdf.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-23784 Filed 10-29-21; 8:45 am]

BILLING CODE 4000-01-P